DEPARTMENT OF THE INTERIOR

Fish and Wildlife Service

[FWS-R9-IA-2008-N0264; 96300-1671-0000-P5]

Receipt of Applications for Permit

AGENCY: Fish and Wildlife Service, Interior.

ACTION: Notice of receipt of applications for permit.

SUMMARY: The public is invited to comment on the following applications to conduct certain activities with endangered species and marine mammals.

DATES: Written data, comments or requests must be received by November 14, 2008.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 212, Arlington, Virginia 22203; fax 703-358-2281.

FOR FURTHER INFORMATION CONTACT: Division of Management Authority, telephone 703-358-2104.

SUPPLEMENTARY INFORMATION:

Endangered Species

The public is invited to comment on the following applications for a permit to conduct certain activities with endangered species. This notice is provided pursuant to section 10(c) of the Endangered Species Act of 1973, as amended (16 U.S.C. 1531 et seq.). Written data, comments, or requests for copies of these complete applications should be submitted to the Director (address above).

Applicant: North Carolina Zoological Park, Asheboro, NC, PRT-179585.

The applicant requests a permit to export biological samples from captive-held/captive-born specimens of western gorilla (Gorilla gorilla) collected in the course of normal veterinary care to the Max Planck Institute for Evolutionary Anthropology, Germany for the purpose of scientific research. This notification covers activities to be conducted by the applicant over a five-year period.

Applicant: Gibbon Conservation Center, Santa Clarita, CA, PRT-194502.

The applicant requests a permit to import two male and three female captive-held eastern hoolock gibbons (Hoolock leuconedys) from the Yangon Zoological Gardens, Myanmar for the purpose of enhancement of the survival of the species through captive breeding.

Applicant: Gibbon Conservation Center, Santa Clarita, CA, PRT-194504.

The applicant requests a permit to import one male captive-born northern white-cheeked gibbon (Nomascus leucogenys) from the Parc Zoologique de Cleres, France for the purpose of enhancement of the survival of the species through captive breeding.

Applicant: ZOOZ, c/o Glenn Donnelly, Weedsport, NY, PRT-178258.

The applicant requests a permit to export one female captive-born Amur leopard (Panthera pardus orientalis) to ZOOZ, Ontario, Canada for the purpose of enhancement of the survival of the species through captive propagation and conservation education.

Applicant: ZOOZ, c/o Glenn Donnelly, Weedsport, NY, PRT-188848.

The applicant requests a permit to export one male captive-born white tiger (Panthera tigris) to ZOOZ, Ontario, Canada for the purpose of enhancement of the survival of the species through conservation education and captive breeding.

Applicant: Duke University Lemur Center, Durham, NC, PRT-679043.

The applicant requests renewal of their permit to take and sell in interstate and foreign commerce, export, or re-export blood and tissue, whole cadavers, and parts from species in the families Lemuridae, Indriidae, Cheirogaleidae, Daubentoniidae, Tarsiidae, and Lorisidae for the purpose of enhancement of the survival of the species and scientific research. This notification covers activities conducted by the applicant for a five-year period.

Applicant: Hugh D. Wabner, Dallas, TX, PRT-194316.

The applicant requests a permit to import the sport-hunted trophy of one male bontebok (Damaliscus pygargus pygargus) culled from a captive herd maintained under the management program of the Republic of South Africa, for the purpose of enhancement of the survival of the species.

Applicant: Dianne Peden, Lubbock, TX, PRT-194674.

The applicant requests a permit to import the sport-hunted trophy of one male bontebok (Damaliscus pygargus pygargus) culled from a captive herd maintained under the management program of the Republic of South Africa, for the purpose of enhancement of the survival of the species.

Applicant: James E. Smith, Lakeland, FL, PRT-194643.

The applicant requests a permit to import the sport-hunted trophy of one male bontebok (Damaliscus pygargus pygargus) culled from a captive herd maintained under the management program of the Republic of South Africa, for the purpose of enhancement of the survival of the species.

Applicant: John L. Pouleson, Downers Grove, IL, PRT-194630.

The applicant requests a permit to import the sport-hunted trophy of one male bontebok (Damaliscus pygargus pygargus) culled from a captive herd maintained under the management program of the Republic of South Africa, for the purpose of enhancement of the survival of the species.

Endangered Marine Mammals

The public is invited to comment on the following application for a permit to conduct certain activities with endangered marine mammals. The application was submitted to satisfy requirements of the Endangered Species Act of 1973, as amended (16 U.S.C. 1531 et seq.) and the Marine Mammal Protection Act of 1972, as amended (16 U.S.C. 1361 et seq.), and the regulations governing endangered species (50 CFR Part 17) and marine mammals (50 CFR Part 18). Written data, comments, or requests for copies of the complete application or requests for a public hearing on this application should be submitted to the Director (address above). Anyone requesting a hearing should give specific reasons why a hearing would be appropriate. The holding of such a hearing is at the discretion of the Director.

Applicant: Wildlife Trust, Inc., St. Petersburg, FL, PRT-107933.

The applicant requests an amendment to the permit to take West Indian manatees (Trichechus manatus) to expand the geographic area to include all of the waters and holding facilities within the southeastern United States for the purpose of scientific research. This notification covers activities to be conducted by the applicant over the remainder of the time on their five-year period.

Concurrent with the publication of this notice in the Federal Register, the Division of Management Authority is forwarding copies of the above application to the Marine Mammal Commission and the Committee of Scientific Advisors for their review.

Dated: September 19, 2008.
Lisa J. Lierheimer,
Senior Permit Biologist, Branch of Permits, Division of Management Authority.

[FR Doc. E8-24547 Filed 10-14-08; 8:45 am]

BILLING CODE 4310-55-P